FEDERAL COMMUNICATIONS COMMISSION

47 CFR Chapter I

[CC Docket No. 01-92; DA 06-2548]

Developing a Unified Intercarrier Compensation Regime

AGENCY: Federal Communications Commission.

ACTION: Proposed rule, reopening of reply comment period.

SUMMARY: This document grants a request for an extension of time to file reply comments on a proposed process to address phantom traffic issues and a related proposal for the creation and exchange of call detail records filed by the Supporters of the Missoula Plan, an intercarrier compensation reform plan filed July 24, 2006 by the National Association of Regulatory Utility Commissioners' Task Force on Intercarrier Compensation (the NARUC Task Force). The Order modifies the pleading cycle by reopening the comment period in order to facilitate the development of a more substantive and complete record in this proceeding.

DATES: Submit reply comments on or before January 5, 2007.

ADDRESSES: You may submit comments, identified by CC Docket No. 01-92, by any of the following methods:

• Federal eRulemaking Portal: http://www.regulations.gov. Follow the instructions for submitting comments.

• Federal Communications Commission Web Site: http://www.fcc.gov. Follow the instructions for submitting comments on the Electronic Comment Filing System (ECFS) /http://www.fcc.gov/cgb/ecfs/.

• E-mail: To randy.clarke@fcc.gov. Include CC Docket 01-92 in the subject line of the message.

• Fax: To the attention of Randy Clarke at 202-418-1567. Include CC Docket 01-92 on the cover page.

• Mail: Parties should send a copy of their filings to Randy Clarke, Pricing Policy Division, Wireline Competition Bureau, Federal Communications Commission, Room 5-A360, 445 12th Street, SW., Washington, DC 20554.

• Hand Delivery/Courier: The Commission's contractor, Natek, Inc., will receive hand-delivered or messenger-delivered paper filings for the Commission's Secretary at 236 Massachusetts Avenue, NE., Suite 110, Washington, DC 20002.

—The filing hours at this location are 8 a.m. to 7 p.m.

—All hand deliveries must be held together with rubber bands or fasteners.

—Any envelopes must be disposed of before entering the building.

—Commercial overnight mail (other than U.S. Postal Service Express Mail and Priority Mail) must be sent to 9300 East Hampton Drive, Capitol Heights, MD 20743.

• People with Disabilities: To request materials in accessible formats for people with disabilities (braille, large print, electronic files, audio format), send an e-mail to fcc504@fcc.gov or call the Consumer & Governmental Affairs Bureau at 202-418-0530 (voice), 202-418-0432 (tty).

Instructions: All submissions received must include the agency name and docket number. All comments received will be posted without change to http://www.fcc.gov/cgb/ecfs/, including any personal information provided. For detailed instructions on submitting comments and additional information on the rulemaking process, see the Public Notice requesting comment on the Missoula Plan Phantom Traffic Interim Process and Call Detail Records Proposal. 71 FR 67509, November 22, 2006.

FOR FURTHER INFORMATION CONTACT: Jennifer McKee, Wireline Competition Bureau, Pricing Policy Division, (202) 418-1530, or Randy Clarke, Wireline Competition Bureau, Pricing Policy Division, (202) 418-1587.

SUPPLEMENTARY INFORMATION: This is a summary of the Commission's Order [DA 06-2548] released December 20, 2006. The complete text of the Order is available for inspection and copying during business hours at the FCC Reference Information Center, Portals II, 445 12th St. SW., Room CY-A257, Washington, DC 20554. The complete text of this document also may be purchased from the Commission's copy contractor, Best Copy and Printing, Inc., 445 12th Street, SW., Room, CY-B402, Washington, DC 20554. The complete text may also be downloaded at: http://www.fcc.gov. By the Order, the Wireline Competition Bureau (WCB) grants a request for an extension of time to file reply comments on a proposed process to address phantom traffic issues and a related proposal for the creation and exchange of call detail records filed by the Supporters of the “Missoula Plan.” The Missoula Plan was filed on July 24, 2006 by the National Association of Regulatory Utility Commissioners' Task Force on Intercarrier Compensation. 71 FR 45510, August 9, 2006; 71 FR 54008, September 13, 2006; 71 FR 70709, December 6, 2006. Among other things, the Missoula Plan contained a Comprehensive Solution for Phantom Traffic, which called “for the filing of an industry proposal for a uniform process for the creation and exchange of call detail records.” On November 6, 2006, the Supporters of the Missoula Plan filed a written ex arte proposing an interim process to address phantom traffic issues and a related proposal for the creation and exchange of call detail records. On November 8, 2006, the WCB released a Public Notice requesting comment on the proposed phantom traffic interim process and call detail record proposal. 71 FR 67509, November 22, 2006. Thirty-nine (39) comments on this proposal were filed on December 7, 2006 and reply comments are due December 22, 2006. On December 18, 2006, the Supporters of the Missoula Plan filed a request for additional time to file reply comments on the phantom traffic proposal.

The WCB determined that providing additional time to file reply comments will facilitate the development of a more substantive and complete record in this proceeding. Although it is the policy of the Commission that extensions of time shall not be routinely granted, the WCB determined that given the number of comments filed, the complexity of the issues raised in the proposal, and the importance of the phantom traffic issue to the industry, we find that good cause exists to provide parties an extension of time, from December 22, 2006 to January 5, 2007 for filing reply comments in this proceeding.

Accordingly, it is ordered that, pursuant to sections 4(i), 4(j), and 5(c) of the Communications Act, 47 U.S.C. 154(i), 154(j), 155(c), and §§ 0.91, 0.291, and 1.46 of the Commission's rules, 47 CFR 0.91, 0.291, 1.46, the pleading cycle established in this matter shall be modified as follows:

Reply Comments Due: January 5, 2007.

All other filing procedures remain unchanged from those previously established in this proceeding.

It is further ordered that the request of the Supporters of the Missoula Plan for an Extension of Time is granted, as set forth herein.

Federal Communications Commission.
Thomas J. Navin,
Chief, Wireline Competition Bureau.

[FR Doc. E7-622 Filed 1-17-07; 8:45 am]

BILLING CODE 6712-01-P